DEPARTMENT OF DEFENSE

Office of Secretary

[DOD-2007-OS-0081]

Privacy Act of 1974; Systems of Records

AGENCY: Defense Finance and Accounting Service.

ACTION: Notice to add a system of records.

SUMMARY: The Defense Finance and Accounting Service (DFAS) is proposing to add a system of records notice to its inventory of record systems subject to the Privacy Act of 1974, (5 U.S.C. 552a), as amended.

DATES: This action will be effective without further notice on September 12, 2007 unless comments are received that would result in a contrary determination.

ADDRESSES: Send comments to the Defense Finance and Accounting Service, Corporate Communications and Legislative Liaison, Freedom of Information Act/Privacy Act Program Manager, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on August 6, 2007, to the House Committee on Oversight and Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: August 7, 2007.
C.R. Choate,
Alternate OSD Federal Register Liaison Officer, Department of Defense.

T7320a

System name:

Centralized Finance & Accounting Support Systems (CFASS).

System location:

Defense Information Systems Agency (DISA), Defense Enterprise Computing Center (DECC)—Mechanicsburg, 5450 Carlisle Pike, Mechanicsburg, PA 17050-0975.

Categories of individuals covered by the system:

Active and Reserve duly Air Force, Army, Navy, Marine Corps, National Guard, retired military members, DoD civilian employees, and other Federal agencies' civilian employees whose pay is processed by Defense Finance and Accounting Service.

Categories of records in the system:

Individual's name, Social Security Number (SSN), address, and check and bond number.

Authority for maintenance of the system:

5 U.S.C. 301, Departmental Regulations; Department of Defense Financial Management Regulation (DoDFMR) 7000.14-R, Vol. 5; 31 U.S.C. Sections 3325, 3511, 3513; and E.O. 9397(SSN).

Purpose(s):

To provide a history and tracking system for checks and bonds printed, reissued, and non-delivered, that will be used for on-line inquiry purposes by disbursing personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Treasury Department to provide information on checks and bonds issued, returned checks, and bonds.

To the American Red Cross and military relief societies to assist military personnel and dependents of deceased members, in determining the status of checks and bonds issued to the member or dependent.

To the Federal Reserve banks to distribute payments made through the direct deposit system to financial organizations or their processing agents authorized by individuals to receive and deposit payments in their accounts.

The DoD “Blanket Routine Uses” set forth at the beginning of the DoD compilation of systems of records notices apply to this system of records.

Policies and practices for storing, retrieving, accessing, retaining, and disposing of records in the system:

Storage:

Paper records in file folders and electronic storage media.

Retrievability:

Social Security Number (SSN) and check or bond number.

Safeguards:

Records are maintained in a controlled facility. Physical entry is restricted by use of locks and guards. It is accessible only to authorized personnel. Access to records is limited to individuals who are properly screened and cleared on a need-to-know basis in the performance of their official duties. Passwords and user identification are used to control access to the system data, and procedures are in place to deter and detect browsing and unauthorized access.

Retention and disposal:

Records are retained in the system for one year and then destroyed. Electronic records are destroyed by degaussing the media and hardcopy documents are destroyed by recycling, burning, pulping or shredding.

System manager(s) and address:

CFASS System Manager, Defense Finance and Accounting Service—Denver, Systems Management Directorate, 6760 E. Irvington Place, Denver, CO 80279-8000.

Notification procedure:

Individuals seeking to determine whether information about them is contained in this system of records should address written inquiries to the Defense Finance and Accounting Service, Corporate Communications and Legislative Liaison, Freedom of Information/Privacy Act Program Manager, 6760 E. Irvington Place, Denver, CO 80279-8000.

Requests should contain individual's full name, Social Security Number (SSN), current address, and telephone number.

Record access procedures:

Individuals seeking access to information about them contained in this system of records should address written inquiries to the Defense Finance and Accounting Service, Corporate Communications and Legislative Liaison, Freedom of Information Act/Privacy Act Program Manager, 6760 E. Irvington Place, Denver, CO 80279-8000.

Requests should contain individual's full name, Social Security Number, current address, and telephone number.

Contesting record procedures:

The DFAS rules for accessing records, for contesting contents and appealing initial agency determinations are contained in DFAS Regulation 5400.11-R; 32 CFR part 324; or may be obtained from the Defense Finance and Accounting Service, Freedom of Information Act/Privacy Act Program Manager, Corporate Communications and Legislative Liaison, 6760 E. Irvington Place, Denver, CO 80279-8000.

Record source categories:

From the individual concerned, DoD Components, and other Federal agencies such as, Department of Health and Human Services, Department of Veterans Affairs, Environmental Protection Agency, Department of Energy, whose civilian pay is processed by a DFAS payroll system.

Exemptions claimed for the system:

None.

[FR Doc. E7-15776 Filed 8-10-07; 8:45 am]

BILLING CODE 5001-06-P